DEPARTMENT OF ENERGY

Federal Energy Regulatory Commission

Combined Notice of Filings #1

February 6, 2008.

Take notice that the Commission received the following electric rate filings:

Docket Numbers: ER02-1633-005; ER04-1099-004; ER03-25-004; ER00-38-007; ER08-530-000; ER03-290-005; ER00-1115-006; ER04-1080-004; ER00-3562-006; ER03-209-005; ER05-816-003; ER05-1422-005; ER05-819-003; ER05-820-003; ER05-48-003; ER04-831-005; ER03-36-007; ER02-1367-005; ER03-446-005; ER08-531-000; ER03-341-005; ER03-342-005; ER02-1959-005; ER08-532-000; ER02-2227-007; ER06-441-002; ER02-600-008; ER99-1983-006; ER08-533-000; ER01-2688-010; ER02-2229-006; ER02-1257-005; ER03-24-006; ER04-1221-002; ER05-67-003; ER01-480-006; ER08-534-000; ER05-68-003; ER04-1081-004; ER03-838-006; ER03-49-004; ER99-970-006; ER08-529-000 ER03-1288-004; ER01-2887-007; ER04-1100-004; ER02-1319-006; ER06-754-004; ER06-755-003; ER06-749-003; ER06-751-004; ER06-753-003; ER06-741-003; ER06-756-003; ER06-750-003; ER06-742-003; ER06-752-003

Applicants: Auburndale Peaker Energy Center, L.L.C.; Bethpage Energy Center 3, LLC; Blue Spruce Energy Center, LLC; BROAD RIVER ENERGY LLC; Calpine California Equipment Finance Company, LLC; Calpine Construction Finance Company, LP; Calpine Energy Management, L.P.; Calpine Energy Services, L.P.; CES Marketing Vi, LLC; Calpine Merchant Services Company, Inc.; CES Marketing V, L.P.; CES Marketing IX, LLC; CES Marketing X, LLC; Calpine Bethpage 3, LLC; Calpine Newark, LLC; Calpine Northbrook Energy Marketing, LLC; Calpine Oneta Power, LP; Calpine Philadelphia, Inc; Calpine Power America—OR, LLC; Calpine Power America—CA, LLC; CPN Bethpage 3rd Turbine Inc.; CPN Bethpage 3rd Turbine Inc.; Creed Energy Center, LLC; Decatur Energy Center, LLC; Delta Energy Center, LLC; Geyers Power Company, LLC; Gilroy Energy Center, LLC; Goose Haven Energy Center, LLC; HERMISTON POWER PARTNERSHIP; Los Esteros Critical Energy Facility LLC; Mankato Energy Center, LLC; Metcalf Energy Center, LLC; MOBILE ENERGY LLC; Pastoria Energy Center, LLC; PCF2, LLC; Power Contract Financing, L.L.C.; Riverside Energy Center, LLC; RockGen Energy LLC; Rocky Mountain Energy Center, LLC; South Point Energy Center, LLC; Zion Energy LLC; Auburndale Power Partners LP; Calpine Gilroy Cogen, L.P.; Carville Energy LLC; Columbia Energy LLC; CPN Pryor Funding Corporation; KIAC PARTNERS; Los Medanos Energy Center LLC; Morgan Energy Center, LLC; NISSEQUOGUE COGEN PARTNERS; Pine Bluff Energy, LLC

Description: Order 697 Compliance Filing and Application for Authority to Sell Services at Market-Based Rates re Auburndale Peaker Energy Center LLC et al.

Filed Date: 02/05/2008.

Accession Number: 20080205-0293.

Comment Date: 5 p.m. Eastern Time on Tuesday, February 26, 2008.

Docket Numbers: ER07-1105-004.

Applicants: Cedar Creek Wind Energy, LLC.

Description: Cedar Creek Wind Energy, LLC's Notice of a Change in Facts.

Filed Date: 02/05/2008.

Accession Number: 20080205-5012.

Comment Date: 5 p.m. Eastern Time on Tuesday, February 26, 2008.

Docket Numbers: ER07-1285-004.

Applicants: Niagara Mohawk Power Corporation.

Description: National Grid submits a refund report.

Filed Date: 01/31/2008.

Accession Number: 20080206-0168.

Comment Date: 5 p.m. Eastern Time on Thursday, February 21, 2008.

Docket Numbers: ER08-501-000.

Applicants: American Electric Power Service Corporation.

Description: AEP Operating Companies submit First Revised Interconnection and Local Delivery Service Agreement 1436.

Filed Date: 01/31/2008.

Accession Number: 20080201-0119.

Comment Date: 5 p.m. Eastern Time on Thursday, February 21, 2008.

Docket Numbers: ER08-519-000.

Applicants: California Independent System Operator Corporation.

Description: California Independent System Operator Corporation submits Amendments to enable the implementation of the Congestion Revenue Right Contingency Plan.

Filed Date: 01/31/2008.

Accession Number: 20080204-0115.

Comment Date: 5 p.m. Eastern Time on Friday, February 15, 2008.

Docket Numbers: ER08-527-000.

Applicants: Public Service Company of Colorado.

Description: Public Service Compay of Colorado submits changes in base rates applicable to service with Aquila Inc et al to be effective 4/1/08.

Filed Date: 02/01/2008.

Accession Number: 20080205-0217.

Comment Date: 5 p.m. Eastern Time on Friday, February 22, 2008.

Docket Numbers: ER08-535-000.

Applicants: Xcel Energy Services Inc.

Description: Public Service Co of Colorado submits the Renewable Energy Certificate Rider with Intermountain Rural Electric Association.

Filed Date: 01/30/2008.

Accession Number: 20080205-0323.

Comment Date: 5 p.m. Eastern Time on Wednesday, February 20, 2008.

Docket Numbers: ER08-536-000.

Applicants: Polytop Corporation.

Description: Polutop Corporation submits their FERC Electric Tariff, Original Volume 1.

Filed Date: 02/05/2008.

Accession Number: 20080206-0167.

Comment Date: 5 p.m. Eastern Time on Tuesday, February 26, 2008.

Docket Numbers: ER08-538-000.

Applicants: ISO New England Inc.

Description: ISO New England Inc submits its revised tariff sheets reflecting proposed revisions to Section III.E.2.2 of Market Rule 1 etc & testimony of Henry Y Yoshimura.

Filed Date: 02/05/2008.

Accession Number: 20080206-0231.

Comment Date: 5 p.m. Eastern Time on Friday, February 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-2609 Filed 2-12-08; 8:45 am]

BILLING CODE 6717-01-P